DEPARTMENT OF ENERGY

Federal Energy Regulatory Commission

[Docket No. RP23-840-000]

Transcontinental Gas Pipe Line Company, LLC; Notice of Technical Conference

On July 14, 2023, the Commission issued an order directing Commission staff to convene a technical conference to discuss Transcontinental Gas Pipe Line Company, LLC's revisions to the rates, charges, and certain terms and conditions of service at the Washington Storage Field in St. Landry Parish, Louisiana.¹ The technical conference will be held on Wednesday, September 13, 2023, from 9:00 a.m. to 4:00 p.m. Eastern Standard Time. The conference will be held virtually and in person at a room to be designated at the offices of the Federal Energy Regulatory Commission, 888 First Street NE, Washington, DC 20426. All interested persons are permitted to attend.

¹ Transcontinental Gas Pipe Line Company, LLC, 184 FERC ¶ 61,035 (2023).

Commission conferences are accessible under section 508 of the Rehabilitation Act of 1973. For accessibility accommodations, please send an email to accessibility@ferc.gov, call toll-free (866) 208-3372 (voice) or (202) 208-8659 (TTY), or send a fax to (202) 208-2106 with the required accommodations.

All interested parties that are not able to attend in person are invited to participate remotely. Staff will use the WebEx platform to view supporting documents related to this docket using the following link— https://ferc.webex.com/ferc/j.php?MTID=m6642c4c3eb3c3c97ed6dc3cc03527e8d. For more information about this technical conference, please contact Sorita Ghosh at sorita.ghosh@ferc.gov or at (202) 502-8522 by September 12, 2023.

Dated: August 7, 2023.
Debbie-Anne A. Reese,
Deputy Secretary.

[FR Doc. 2023-17247 Filed 8-10-23; 8:45 am]

BILLING CODE 6717-01-P